DEPARTMENT OF COMMERCE

National Oceanic and Atmospheric Administration

[I.D. 091100H]

Marine Mammals

AGENCY: National Marine Fisheries Service (NMFS), National Oceanic and Atmospheric Administration (NOAA), Commerce.

ACTION: Receipt of application for amendment and request for emergency relocation of Hawaiian monk seals.

SUMMARY: Notice is hereby given that the Southwest Fisheries Science Center, Honolulu Laboratory, NMFS, 2570 Dole Street, Honolulu, Hawaii 96822-2396, has requested an amendment to scientific research Permit No. 848-1335 to allow for the emergency relocation of two Hawaiian monk seal (Monachus schauinslandi) pups.

ADDRESSES: The amendment request and related documents are available for review upon written request or by appointment in the following offices:

Permits Division, Office of Protected Resources, NMFS, 1315 East-West Highway, Room 13705, Silver Spring, MD 20910 (301/713-2289);

Regional Administrator, Southwest Region, NMFS, 501 West Ocean Boulevard, Suite 4200, Long Beach, CA 90802-4213 (562/980-4001); and

Protected Species Program Manager, Pacific Islands Area Office, Southwest Region, NMFS, 1601 Kapiolani Boulevard, Suite 1110, Honolulu, HI (808/973-2937).

SUPPLEMENTARY INFORMATION: The subject amendment to permit No. 848-1335, issued on June 10, 1997 (62 FR 32586) is requested under the authority of the Marine Mammal Protection Act of 1972, as amended (16 U.S.C. 1361 et seq.), the Regulations Governing the Taking and Importing of Marine Mammals (50 CFR part 216), the Endangered Species Act (ESA) of 1973, as amended (16 U.S.C. 1531 et seq.), and the Regulations Governing the Taking, Importing, and Exporting of Endangered Fish and Wildlife (50 CFR part 222).

The permit holder is currently authorized to conduct population assessment, disease assessment, recovery actions, and pelagic ecology studies of Hawaiian monk seals (Monachus schauinslandi) at all locations within the Hawaiian Archipelago and at Johnston Atoll, through May 31, 2002. The permit holder is now requesting that the permit be amended to authorize the emergency relocation of two weaned Hawaiian monk seal pups in order to protect their health and well-being. The permit has been amended to authorize the relocation of the two animals, pursuant to § 216.33(e)(6) of the Regulations Governing the Taking and Importing of Marine Mammals (50 CFR part 216) which allows waiver of the 30-day public comment period. The remainder of the pending amendment application for this action is being processed according to 50 CFR 216.39.

In compliance with the National Environmental Policy Act of 1969 (42 U.S.C. 4321 et seq.), an initial determination has been made that the activity proposed is categorically excluded from the requirement to prepare an environmental assessment or environmental impact statement.

NMFS has forwarded copies of this amendment request to the Marine Mammal Commission and its Committee of Scientific Advisors.

Dated: September18, 2000.
Ann D. Terbush,
Chief, Permits and Documentation Division, Office of Protected Resources, National Marine Fisheries Service.

[FR Doc. 00-24454- Filed 9-21-00; 8:45 am]

BILLING CODE 3510-22-S